DEPARTMENT OF TRANSPORTATION

Federal Aviation Administration

14 CFR Part 25

[Docket No. FAA-2013-0109; Notice No. 13-03 and Docket No. FAA-2013-0142; Notice No. 13-04]

RIN 2120-AK13, 2120-AK12

Harmonization of Airworthiness Standards—Miscellaneous Structures Requirements and Harmonization of Airworthiness Standards—Gust and Maneuver Load Requirements; Corrections

AGENCY: Federal Aviation Administration (FAA), DOT.

ACTION: Proposed rules; corrections.

SUMMARY: The Federal Aviation Administration (FAA) is correcting notice numbers that appear in the heading of two notices of proposed rulemakings published in the Federal Register. The publications are “Harmonization of Airworthiness Standards—Miscellaneous Structures Requirements” (78 FR 13835, March 1, 2013) and “Harmonization of Airworthiness Standards—Gust and Maneuver Load Requirements” (78 FR 31851, May 28, 2013). These actions address regulatory differences between the airworthiness standards of the FAA and the European Aviation Safety Agency, without affecting current industry design practices.

DATES: Effective on April 16, 2014.

FOR FURTHER INFORMATION CONTACT: Ralen Gao, Office of Rulemaking, ARM-209, Federal Aviation Administration, 800 Independence Avenue SW., Washington, DC 20591; telephone (202) 267-3168; fax (202) 267-5075; email ralen.gao@faa.gov.

SUPPLEMENTARY INFORMATION: The FAA published a notice of proposed rulemaking (NPRM) in the Federal Register on March 1, 2013 (78 FR 13835) regarding certain airworthiness standards for transport category airplanes that would eliminate regulatory differences between the airworthiness standards of the FAA and the European Aviation Safety Agency (EASA). This document corrects an inadvertent notice number that appears in the heading of the publication of that NPRM.

The FAA published an NPRM in the Federal Register on May 28, 2013 (78 FR 31851), regarding certain airworthiness standards that would eliminate regulatory differences between the airworthiness standards of the FAA and the European Aviation Safety Agency (EASA). This document corrects an inadvertent notice number that appears in the heading of the publication of that NPRM. This incorrect notice number also appeared in the heading of two related correction documents published on June 24, 2013 and July 16, 2013.

Corrections

In FR Doc. 2013-04812, beginning on page 13835 in the Federal Register of March 1, 2013, make the following correction:

On page 13835, in the first column heading, change the notice number from “25-137” to “13-03”.

In FR Doc. 2013-12445, beginning on page 31851 in the Federal Register of May 28, 2013, make the following correction:

On page 31851, in the first column heading, change the notice number from “25-139” to “13-04”.

In FR Doc. C1-2013-12445, beginning on page 37722 in the Federal Register of June 24, 2013, make the following correction:

On page 37722, in the third column heading, change the notice number from “25-139” to “13-04”.

Finally, in FR Doc. C2-2013-12445, beginning on page 42480 in the Federal Register of July 16, 2013, make the following correction:

On page 42480, in the first column second heading, change the notice number from “25-139” to “13-04”.

Issued in Washington, DC, on April 10, 2014.
Lirio Liu
Director, Office of Rulemaking.

[FR Doc. 2014-08564 Filed 4-15-14; 8:45 am]

BILLING CODE 4910-13-P